NUCLEAR REGULATORY COMMISSION

[Docket Nos. 50-247-LR, 50-286-LR]

Notice of Appointment of Adjudicatory Employees; In the Matter of Entergy Nuclear Operations, Inc. (Indian Point Nuclear Generating Units 2 and 3)

Commissioners

Allison M. Macfarlane, Chairman

Kristine L. Svinicki

George Apostolakis ¹

¹ Commissioner Apostolakis is not participating in this adjudication.

William D. Magwood, IV

William C. Ostendorff

Pursuant to 10 CFR 2.4, notice is hereby given that Vinod Mubayi, Ph.D., Physicist, Nuclear Science and Technology Department, Brookhaven National Laboratory, and Gurcharan Singh Matharu, Senior Electrical Engineer, NRR, Division of Engineering, Electrical Engineering Branch, have been appointed as Commission adjudicatory employees within the meaning of section 2.4, to advise the Commission regarding issues relating to review of the Licensing Board's Partial Initial decision, LBP-13-13, in this adjudication. Dr. Mubayi and Mr. Matharu have not previously performed any investigative or litigating function in connection with this or any related proceeding.

Until such time as a final decision is issued in this matter, interested persons outside the agency and agency employees performing investigative or litigating functions in this proceeding are required to observe the restrictions of 10 CFR 2.347 and 2.348 in their communications with Dr. Mubayi and Mr. Matharu.

It Is So Ordered.

For the Commission.
Dated at Rockville, Maryland, this 1st day of April 2014.
Annette L. Vietti-Cook,
Secretary of the Commission.

[FR Doc. 2014-07825 Filed 4-7-14; 8:45 am]

BILLING CODE 7590-01-P